DEPARTMENT OF ENERGY

Federal Energy Regulatory Commission

Combined Notice of Filings #1

Take notice that the Commission received the following electric corporate filings:

Docket Numbers: EC14-147-000.

Applicants: Portland General Electric Company.

Description: Application for Authorization under Section 203 of the Federal Power Act and Request for Expedited Consideration of Portland General Electric Company.

Filed Date: 9/19/14.

Accession Number: 20140919-5166.

Comments Due: 5 p.m. ET 10/10/14.

Take notice that the Commission received the following exempt wholesale generator filings:

Docket Numbers: EG14-107-000.

Applicants: Rattlesnake Wind I LLC.

Description: Notice of Self-Certification of Exempt Wholesale Generator Status of Rattlesnake Wind I LLC.

Filed Date: 9/22/14.

Accession Number: 20140922-5037.

Comments Due: 5 p.m. ET 10/14/14.

Take notice that the Commission received the following electric rate filings:

Docket Numbers: ER13-1040-002.

Applicants: Wisconsin Public Service Corporation.

Description: eTariff filing per 35.19a(b): WPSC Compliance Filing in Docket Nos. ER13-1040, et al. and AC13-179 to be effective N/A.

Filed Date: 9/22/14.

Accession Number: 20140922-5054.

Comments Due: 5 p.m. ET 10/14/14.

Docket Numbers: ER14-1172-000.

Applicants: Wisconsin Public Service Corporation.

Description: eTariff filing per 35.19a(b): WPSC Compliance Filing in Docket Nos. ER13-1040, et al. and AC13-179 to be effective N/A.

Filed Date: 9/22/14.

Accession Number: 20140922-5043.

Comments Due: 5 p.m. ET 10/14/14.

Docket Numbers: ER14-1243-004.

Applicants: Midcontinent Independent System Operator, Inc.

Description: eTariff filing per 35.19a(b): 2014-09-22_Presque Isle SSR Refund Report to be effective N/A.

Filed Date: 9/22/14.

Accession Number: 20140922-5071.

Comments Due: 5 p.m. ET 10/14/14.

Docket Numbers: ER14-1725-001.

Applicants: Midcontinent Independent System Operator, Inc.

Description: eTariff filing per 35.19a(b): 2014-09-22_White Pine SSR Refund Report to be effective N/A.

Filed Date: 9/22/14.

Accession Number: 20140922-5072.

Comments Due: 5 p.m. ET 10/14/14.

Docket Numbers: ER14-2180-001.

Applicants: Midcontinent Independent System Operator, Inc.

Description: eTariff filing per 35.19a(b): 2014-09-22_Escanaba Refund Report to be effective N/A.

Filed Date: 9/22/14.

Accession Number: 20140922-5073.

Comments Due: 5 p.m. ET 10/14/14.

Docket Numbers: ER14-2399-002.

Applicants: Southwest Power Pool, Inc.

Description: Tariff Amendment per 35.17(b): Attachment AE—Integrated Marketplace Deferral of Action in ER14-2399 to be effective 12/31/9998.

Filed Date: 9/19/14.

Accession Number: 20140919-5144.

Comments Due: 5 p.m. ET 10/10/14.

Docket Numbers: ER14-2584-001.

Applicants: San Diego Gas & Electric Company.

Description: Tariff Amendment per 35.17(b): SDGE Amendment to WDAT Appendix H SGIA and GIP to be effective 10/3/2014.

Filed Date: 9/19/14.

Accession Number: 20140919-5143.

Comments Due: 5 p.m. ET 10/10/14.

Docket Numbers: ER14-2918-000.

Applicants: ISO New England Inc., New England Power Pool Participants Committee.

Description: § 205(d) rate filing per 35.13(a)(2)(iii): Regulation Market Dispatch Changes to be effective 3/31/2015.

Filed Date: 9/22/14.

Accession Number: 20140922-5034.

Comments Due: 5 p.m. ET 10/14/14.

Docket Numbers: ER14-2919-000.

Applicants: Wisconsin Public Service Corporation.

Description: Tariff Withdrawal per 35.15: Notice of Cancellation of WPSC and Marshfield Letter Agreement to be effective 8/27/2014.

Filed Date: 9/22/14.

Accession Number: 20140922-5044.

Comments Due: 5 p.m. ET 10/14/14.

Docket Numbers: ER14-2920-000.

Applicants: Midcontinent Independent System Operator, Inc.

Description: § 205(d) rate filing per 35.13(a)(2)(iii): 2014-09-22_SA 2421 METC-Beebe Renewable Energy GIA (J132/J246) to be effective 9/23/2014.

Filed Date: 9/22/14.

Accession Number: 20140922-5084.

Comments Due: 5 p.m. ET 10/14/14.

Docket Numbers: ER14-2921-000.

Applicants: Southwestern Public Service Company.

Description: § 205(d) rate filing per 35.13(a)(2)(iii): 9-22-14_RS135 FCA-SPP IM Anc Srvc to be effective 3/1/2014.

Filed Date: 9/22/14.

Accession Number: 20140922-5086.

Comments Due: 5 p.m. ET 10/14/14.

Docket Numbers: ER14-2922-000.

Applicants: Southwestern Public Service Company.

Description: § 205(d) rate filing per 35.13(a)(2)(iii): 9-22-14_RS136 FCA-SPP IM Anc Srvc to be effective 3/1/2014 .

Filed Date: 9/22/14.

Accession Number: 20140922-5087.

Comments Due: 5 p.m. ET 10/14/14.

Docket Numbers: ER14-2923-000.

Applicants: Southwestern Public Service Company.

Description: § 205(d) rate filing per 35.13(a)(2)(iii): 9-22-14_RS114-117, 137 FCA-SPP IM Anc Srvc to be effective 3/1/2014.

Filed Date: 9/22/14.

Accession Number: 20140922-5088.

Comments Due: 5 p.m. ET 10/14/14.

Docket Numbers: ER14-2924-000.

Applicants: Midcontinent Independent System Operator, Inc.

Description: § 205(d) rate filing per 35.13(a)(2)(iii): 2014-09-22_SA 2694 ITC Transmission-Oregon Clean Energy FCA (Y1-069) to be effective 9/23/2014.

Filed Date: 9/22/14.

Accession Number: 20140922-5104.

Comments Due: 5 p.m. ET 10/14/14.

Take notice that the Commission received the following electric securities filings:

Docket Numbers: ES14-47-000.

Applicants: Wheeling Power Company.

Description: Amendment to July 31, 2014 Application to issue securities pursuant to Section 204 of the Federal Power Act of Wheeling Power Company.

Filed Date: 9/22/14.

Accession Number: 20140922-5067.

Comments Due: 5 p.m. ET 10/2/14.

Docket Numbers: ES14-49-000.

Applicants: MDU Resources Group, Inc.

Description: Supplement to August 22, 2014 Application for authorization to issue securities of MDU Resources Group, Inc.

Filed Date: 9/22/14.

Accession Number: 20140922-5141.

Comments Due: 5 p.m. ET 10/2/14

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 22, 2014.
Nathaniel J. Davis, Sr.,
Deputy Secretary.

[FR Doc. 2014-23197 Filed 9-29-14; 8:45 am]

BILLING CODE 6717-01-P